DEPARTMENT OF COMMERCE

National Oceanic and Atmospheric Administration

RIN 0648-XP51

Endangered and Threatened Species; Take of Anadromous Fish

AGENCY: National Marine Fisheries Service (NMFS), National Oceanic and Atmospheric Administration (NOAA), Commerce.

ACTION: Notice, issuance of permit.

SUMMARY: Notice is hereby given that Natural Resource Scientists, Incorporated (NRS), P.O. Box 1210, Red Bluff, CA, 96080, has been issued a permit to take Sacramento River winter-run Chinook salmon (Oncorhynchus tshawytscha), Central Valley spring-run Chinook salmon (O. tshawytscha), and California steelhead (O. mykiss) for purposes of scientific research.

ADDRESSES: The permit and related documents are available for review upon written request or by appointment in the following office(s): Permits, Conservation and Education Division, Office of Protected Resources, NMFS, 1315 East-West Highway, Room 13705, Silver Spring, MD 20910; phone (301) 713-2289; fax (301) 427-2521; and NMFS, Protected Resources Division, 650 Capitol Mall, Suite 8-300, Sacramento, CA 95814-4706; phone (916) 930-3600; fax (916) 930-3629.

FOR FURTHER INFORMATION CONTACT: Shirley Witalis, phone (916)930-3606.

SUPPLEMENTARY INFORMATION: On December 18, 2008, notice was published in the Federal Register (73 FR 77009), that a request for a scientific research permit to take Sacramento River winter-run Chinook salmon, Central Valley spring-run Chinook salmon, Central Valley steelhead, and southern DPS of North American green sturgeon (Acipenser medirostris) had been submitted by the above-named organization. The requested permit has been issued under the authority of the Endangered Species Act of 1973, as amended (ESA; 16 U.S.C. 1531 et seq.) and the regulations governing the taking, importing, and exporting of endangered and threatened species (50 CFR parts 222-226).

Researchers will annually conduct site specific research at three irrigation diversion canal sites off the Sacramento River, within the Colusa, Sutter, and Yolo counties of the Central Valley, California. Entrained fish will be captured by fyke net, identified as to species/race, enumerated, measured for length, and placed back into the diversion canals; all entrained live fish will be placed back into the Sacramento River. This research is part of an on-going investigation into developing criteria for prioritizing fish screening projects, and will correlate fish entrainment with the physical, hydraulic, and habitat variables at each diversion site. The permit is issued for 2 years.

Issuance of this permit, as required by the ESA, was based on a finding that such permit (1) was applied for in good faith, (2) will not operate to the disadvantage of any endangered or threatened species, and (3) is consistent with the purposes and policies set forth in section 2 of the ESA.

Dated: May 29, 2009.
Angela Somma,
Chief, Endangered Species Division, Office of Protected Resources, National Marine Fisheries Service.

[FR Doc. E9-12966 Filed 6-2-09; 8:45 am]

BILLING CODE 3510-22-S